DEPARTMENT OF DEFENSE

Department of the Navy

32 CFR Part 728

[Docket ID: USN-2019-HQ-0002]

RIN 0703-AB09

Medical and Dental Care for Eligible Persons at Navy Department Facilities

AGENCY: Department of the Navy, Department of Defense.

ACTION: Final rule.

SUMMARY: This final rule removes the Department of the Navy (DON) regulation concerning Medical and Dental Care for Eligible Persons at Navy Department Facilities. Eligibility for healthcare in military medical treatment facilities is established in statute and other DoD regulations, therefore, this regulation is redundant and should be repealed.

DATES: This rule is effective on March 26, 2019.

FOR FURTHER INFORMATION CONTACT: Commander Lakesha Chieves at 703-693-0238.

SUPPLEMENTARY INFORMATION: Code of Federal Regulations, title 32, subtitle A, chapter VI, subchapter C, part 728, “Medical and Dental Care for Eligible Persons at Navy Medical Department Facilities” is a Department of the Navy regulation prescribing the eligibility for medical and dental care in Navy Medical Treatment Facilities to specific eligible persons including active duty members of the uniformed services, their family members, members and family members of the Reserve Components of the uniformed services, retirees of the uniformed services and their family members, members of Foreign Military Services and their family members, beneficiaries of other Federal Agencies, and other persons deemed eligible for care. Eligibility for care in military medical treatment facilities is established in 10 U.S.C. 1071-1110b, 32 CFR part 199, “Civilian Health and Medical Program of the Uniformed Services (CHAMPUS),” and 32 CFR part 108, “Health Care Eligibility Under the Secretarial Designee Program and Related Special Authorities.” The rule at 32 CFR part 728 is redundant and unnecessary. It has been determined that publication of this CFR part removal for public comment is impracticable and contrary to public interest since it is based upon removing redundant information.

This rule is not significant under Executive Order (E.O.) 12866, “Regulatory Planning and Review.” Therefore, E.O. 13771, “Reducing Regulation and Controlling Regulatory Costs” does not apply.

List of Subjects in 32 CFR Part 728

Dental health, Government employees, Health care, Military personnel.

PART 728—[REMOVED]

Accordingly, by the authority of 5 U.S.C. 301, 32 CFR part 728 is removed.

Dated: March 21, 2019.
M.S. Werner,
Commander, Judge Advocate General's Corps, U.S. Navy, Federal Register Liaison Officer.

[FR Doc. 2019-05723 Filed 3-25-19; 8:45 am]

BILLING CODE 3810-FF-P